DEPARTMENT OF COMMERCE

National Oceanic and Atmospheric Administration

Agency Information Collection Activities; Submission to the Office of Management and Budget (OMB) for Review and Approval; Comment Request; Greater Atlantic Region Vessel Identification Requirements

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before April 15, 2024.

ADDRESSES: Interested persons are invited to submit written comments to Adrienne Thomas, NOAA PRA Officer, at NOAA.PRA@noaa.gov. Please reference OMB Control Number 0648-0350 in the subject line of your comments. Do not submit Confidential Business Information or otherwise sensitive or protected information.

FOR FURTHER INFORMATION CONTACT: Requests for additional information or specific questions related to collection activities should be directed to Laura Hansen, Fishery Management Specialist, NOAA, Greater Atlantic Regional Fisheries Office, (978) 281-9225, Laura.Hansen@noaa.gov.

SUPPLEMENTARY INFORMATION:

I. Abstract

This request is for the extension of a current information collection. Regulations at 50 CFR 648.8 and § 697.8 require that owners of vessels over 25 ft (7.6 m) in registered length that have federal permits to fish in the Greater Atlantic Region display the vessel's name and official number. The name and number must be of a specific size at specified locations: the vessel name must be affixed to the port and starboard sides of the bow and, if possible, on its stern. The official number must be displayed on the port and starboard sides of the deckhouse or hull, and on an appropriate weather deck so as to be clearly visible from enforcement vessels and aircraft. The success of fisheries management programs depends upon regulatory compliance. The vessel identification requirement, which is required of all federally permitted fishing vessels in the Greater Atlantic region, is essential to facilitate enforcement. The ability to link fishing or other activities to a vessel owner or operator is crucial to the enforcement of regulations issued under the authority of the Magnuson-Stevens Fisheries Conservation and Management Act. When this information is clearly displayed, it enables enforcement personnel to easily identify Federal permit holders while engaged in fishing.

II. Method of Collection

No information is submitted to NMFS as a result of this collection. The vessel's identification information must be affixed to the vessel in the designated locations, as specified in the regulations.

III. Data

OMB Control Number: 0648-0350.

Form Number(s): None.

Type of Review: Regular submission (extension of a current information collection).

Affected Public: Individuals or households; business or other for-profit organizations.

Estimated Number of Respondents: 3,935.

Estimated Time per Response: 45 minutes (.75 hours) to affix vessel information to the required locations.

Estimated Total Annual Burden Hours: 2,952

Estimated Total Annual Cost to Public: $59,025.

Respondent's Obligation: Mandatory.

Legal Authority: 50 CFR 648.8.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-03001 Filed 2-13-24; 8:45 am]

BILLING CODE P